DEPARTMENT OF THE INTERIOR

National Park Service

[NPS-WASO-NAGPRA-NPS0030628; PPWOCRADN0-PCU00RP14.R50000]

Notice of Inventory Completion: Peabody Museum of Archaeology and Ethnology, Harvard University, Cambridge, MA

AGENCY: National Park Service, Interior.

ACTION: Notice.

SUMMARY: The Peabody Museum of Archaeology and Ethnology, Harvard University has completed an inventory of human remains, in consultation with the appropriate Indian Tribes, and has determined that there is a cultural affiliation between the human remains and present-day Indian Tribes. Representatives of any Indian Tribe that believes itself to be culturally affiliated with the human remains may contact the Peabody Museum of Archaeology and Ethnology, Harvard University. Repatriation of the human remains to the Indian Tribes stated below may occur if no additional claimants come forward.

DATES: Representatives of any Indian Tribe that believes it has a cultural affiliation with the human remains should contact the Peabody Museum of Archaeology and Ethnology, Harvard University at the address below by September 21, 2020.

ADDRESSES: Patricia Capone, Peabody Museum of Archaeology and Ethnology, Harvard University, 11 Divinity Avenue, Cambridge, MA 02138, telephone (617) 496-3702.

SUPPLEMENTARY INFORMATION: Notice is here given in accordance with the Native American Graves Protection and Repatriation Act (NAGPRA), 25 U.S.C. 3003, of the completion of an inventory of human remains under the control of the Peabody Museum of Archaeology and Ethnology, Harvard University, Cambridge, MA. The human remains were removed from Bristol County, MA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Peabody Museum of Archaeology and Ethnology professional staff in consultation with representatives of the Wampanoag Repatriation Confederation on behalf of the Mashpee Wampanoag Tribe (previously listed as Mashpee Wampanoag Indian Tribal Council, Inc.); Wampanoag Tribe of Gay Head (Aquinnah); and the Assonet Band of the Wampanoag Nation, a non-federally recognized Indian group.

History and Description of the Remains

In 1924, human remains representing, at minimum, seven individuals were removed from burials on the Cummings Farm in Dartmouth, Bristol County, MA. These individuals were excavated by Harry Lionel Shapiro on behalf of the Peabody Museum of Archaeology and Ethnology, Harvard University. No known individuals were identified. No associated funerary objects are present.

Based on biological and archeological information in the possession of the Peabody Museum of Archaeology and Ethnology, the human remains are Native American. The interments most likely date to the Historic/Contact period (i.e., post-A.D. 1500). Copper stains present on some of the human remains from this site suggest that the human remains were interred sometime after contact. Oral traditional information and historical documentation indicate that Dartmouth, MA, is within the aboriginal and historic homeland of the Wampanoag Nation.

In 1874, human remains representing, at minimum, one individual were removed from a “well known Indian burial place” in Westport, Bristol County, MA, by Mr. George H.E. Trouvelot, a medical student. The individual was donated to the Warren Anatomical Museum. In 1959, these human remains were donated to the Peabody Museum of Archaeology and Ethnology by the Warren Anatomical Museum as part of a large accession. No known individuals were identified. No associated funerary objects are present.

The interment most likely dates to the Historic/Contact period (post-A.D. 1500). The original catalogue entry describes this individual as having been removed from “a well known Indian burial place” with about 30 graves. The individuals were buried horizontally, and there were stone slabs at the head and foot of each burial. Pre-contact Native American burials were generally flexed, rarely occurred in clusters, and were rarely marked by stones. Native American cemeteries with headstones and footstones appear only after the arrival of Europeans in North America. Oral traditional information and historical documentation indicate that Westport, MA, is within the aboriginal and historic homeland of the Wampanoag Nation.

Determinations Made by the Peabody Museum of Archaeology and Ethnology, Harvard University

Officials of the Peabody Museum of Archaeology and Ethnology, Harvard University have determined that:

• Pursuant to 25 U.S.C. 3001(9), the human remains described in this notice represent the physical remains of eight individuals of Native American ancestry.

• Pursuant to 25 U.S.C. 3001(2), there is a relationship of shared group identity that can be reasonably traced between the Native American human remains and the Mashpee Wampanoag Tribe (previously listed as Mashpee Wampanoag Indian Tribal Council, Inc.) and the Wampanoag Tribe of Gay Head (Aquinnah), Indian Tribes that represent people of Wampanoag descent.

Additional Requestors and Disposition

Representatives of any Indian Tribe that believes itself to be culturally affiliated with the human remains should contact Patricia Capone, Peabody Museum of Archaeology and Ethnology, Harvard University, 11 Divinity Avenue, Cambridge, MA 02138, telephone (617) 496-3702, by September 21, 2020. After that date, if no additional requestors have come forward, transfer of control of the human remains to the Mashpee Wampanoag Tribe (previously listed as Mashpee Wampanoag Indian Tribal Council, Inc.) and the Wampanoag Tribe of Gay Head (Aquinnah) may proceed.

The Peabody Museum of Archaeology and Ethnology, Harvard University is responsible for notifying the Mashpee Wampanoag Tribe (previously listed as Mashpee Wampanoag Indian Tribal Council, Inc.); Wampanoag Tribe of Gay Head (Aquinnah); and the Assonet Band of the Wampanoag Nation, a non-federally recognized Indian group, that this notice has been published.

Dated: July 14, 2020.
Melanie O'Brien,
Manager, National NAGPRA Program.

[FR Doc. 2020-18228 Filed 8-19-20; 8:45 am]

BILLING CODE 4312-52-P